SOCIAL SECURITY ADMINISTRATION

Agency Information Collection Activities: Proposed Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the SSA Reports Clearance Officer at the following address: Social Security Administration, DCFAM, Attn: Frederick W. Brickenkamp, 1-A-21 Operations Bldg., 6401 Security Blvd., Baltimore, MD 21235.

The information collections listed below will be submitted to OMB within 60 days from the date of this notice. Therefore, your comments should be submitted to SSA within 60 days from the date of this publication. You can obtain copies of the collection instruments by calling the SSA Reports Clearance Officer at 410-965-4145, or by writing to him at the address listed above.

1. Request for Address Information from Motor Vehicles Records, SSA-L711; Request for Address Information from Employment Commissions Records, SSA-L712—0960-0341. SSA sends the SSA-L711 to State Motor Vehicle Adminstrations to obtain the last known address from driver's license and vehicle registration records. SSA sends the SSA-L712 to State Employment Commissions to obtain last known address from State unemployment/employment wage records. SSA uses the information to locate debtors to arrange for payment of a debt. The respondents are State Motor Vehicle Administrations and State Employment Commissions.

| SSA-L711 | SSA-L712
Number of Respondents | 1,300 | 1,100.
Frequency of Response | 1 | 1.
Average Burden Per Response | 2 minutes | 2 minutes.
Estimated Annual Burden | 43 hours | 37 hours.

2. Employee Identification Statement—0960-0473. The information collected on Form SSA-4156 is needed in scrambled earnings situations when two or more individuals have used the same social security number (SSN), or when an employer (or employers) have reported earnings for two or more employees under the same SSN. The information on the form is used to help identify the individual (and the SSN) to whom the earnings belong. The respondents are employers who have reported erroneous wages.

Number of Respondents: 4,750.

Frequency of Response: 1.

Average Burden Per Response: 10 minutes.

Estimated Average Burden: 792 hours.

3. Plan for Achieving Self-Support—0960-0559. The information on form SSA-545 is collected by SSA when a Supplemental Security Income (SSI) applicant/recipient desires to use available income and resources to obtain education and/or training in order to become self-supportive. The information is used to evaluate the recipient's plan for achieving self-support to determine whether the plan may be approved under the provisions of the SSI program. The respondents are SSI applicants/recipients who are blind or disabled.

Number of Respondents: 7,000.

Frequency of Response: 1.

Average Burden Per Response: 2 hours.

Estimated Average Burden: 14,000 hours.

4. Request for the Correction of Earning Records—0960-0029. Form SSA-7008 is used by individual wage earners to request SSA's review, and if necessary, correction of the Agency's master record of their earnings. The respondents are individuals who question SSA's record of their earnings.

Number of Respondents: 375,000.

Frequency of Response: 1.

Average Burden Per Response: 10 minutes.

Estimated Annual Burden: 62,500 hours.

5. Request for a Deceased Individual's Social Security Record, SSA-711; You Can Make Your Payment by Credit Card for a Deceased Individual's Social Security Record, SSA-714—0960-NEW. Form SSA-711 is used by SSA to fulfill requests from members of the public who apply for a microprint of the SS-5, Application for Social Security Card, for a deceased individual. SSA provides this information in response to a request from an individual conducting genealogical research. The information collected on Form SSA-714 is used by SSA to process credit card payments from members of the public who request a microprint of the SS-5 in conjunction with the service provided by the Agency through the SSA-711. Respondents to the SSA-711 and 714 are members of the public who request a microprint of the SS-5 of a deceased individual for genealogical research.

| Respondents | Frequency of response | Average burden per response (min) | Estimated annual burden
SSA-711 | 320,000 | 1 | 7 | 37,333
SSA-714 | 50,000 | 1 | 7 | 5,833
Total burden hours |  |  |  | 43,166

6. Statement for Determining Continuing Eligibility for Supplemental Security Income Payments—Adult, Form SSA-3988-TEST; Statement for Determining Continuing Eligibility for Supplemental Security Income Payments—Child, Form SSA-3987-TEST—0960-NEW.

Background

The Social Security Act mandates periodic redeterminations of the non-medical factors that relate to the SSI recipients' continuing eligibility for SSI payments. Recent SSA studies have indicated that as many as ⅔ of all scheduled redeterminations completed, with the assistance of a SSA employee, did not result in any change in circumstances that affected payment. Therefore, SSA will conduct a limited test to determine whether a less intrusive and labor intensive redetermination process could result in significant operational savings and a decrease in recipient inconvenience, while timely obtaining the accurate data needed to determine continuing eligibility through the process.

The Collection

A limited test of forms SSA-3988-TEST and SSA-3987-TEST will be used to determine whether SSI recipients have met and continue to meet all statutory and regulatory non-medical requirements for SSI eligibility, and whether they have been and are still receiving the correct payment amount. The SSA-3988-TEST and SSA-3987-TEST are designed as self-help forms that will be mailed to recipients or to their representative payees for completion and return to SSA. The test objectives are to determine the public's ability to understand and accurately complete the test forms. The respondents are recipients of SSI benefits or their representatives.

| Respondents | Frequency of response | Average burden per response (min) | Estimated annual burden
SSA-3988-TEST | 13,600 | 1 | 20 | 4,533
SSA-3987-TEST | 2,400 | 1 | 20 | 800
Total burden hours |  |  |  | 5,333

Dated: June 14, 2001.
Frederick W. Brickenkamp,
Reports Clearance Officer.

[FR Doc. 01-15439 Filed 6-19-01; 8:45 am]

BILLING CODE 4191-02-U